COMMISSION ON CIVIL RIGHTS

Notice of Public Meeting of the Connecticut Advisory Committee; Correction

AGENCY: U.S. Commission on Civil Rights.

ACTION: Notice of public meeting of the Connecticut Advisory Committee—correction.

SUMMARY: The Commission on Civil Rights published a notice in the Federal Register of Tuesday, April 9, 2019, concerning a meeting of the Connecticut Advisory Committee. The date and time of the meeting will change from Tuesday, April 16, 2019 at 3:15 p.m. EDT to Wednesday, April 17, 2019 at 12:00 p.m. EDT.

FOR FURTHER INFORMATION CONTACT: Evelyn Bohor, (303) 866-1040, ebohor@usccr.gov.

SUPPLEMENTARY INFORMATION:

Correction

In the Federal Register of Tuesday, April 9, 2019, in FR Doc. 2019-06989, on page 14085, third column; and on page 14086, first and second column, correct the “Dates” caption to read:

DATES: Wednesday, April 17, 2019 at 12:00 p.m. (EDT).

Dated: April 11, 2019.
Brian Walch,
Director, Communications and Public Engagement.

[FR Doc. 2019-07584 Filed 4-16-19; 8:45 am]

BILLING CODE 6335-01-P